DEPARTMENT OF AGRICULTURE

Forest Service

Cibola National Forest Invasive Plant Management Project

AGENCY: Forest Service, USDA.

ACTION: Cancellation of notice of intent to prepare an environmental impact statement.

SUMMARY: On April 29, 2002, Forest Supervisor Liz Agpaoa signed a Notice of Intent (NOT) to prepare an Environmental Impact Statement (EIS) for the Cibola National Forest Invasive Plant Management Project. On May 3, 2002, the Federal Register published the Notice of Intent (NOT) (Volume 67, Number 86, pages 22389-22390). The Department of Agriculture, Forest Service is issuing this notice to advise the public that we are cancelling the notice of intent to prepare an environmental impact statement for this proposed action. The initial proposal provided for the inclusion of all the administrative units on the Cibola National Forest including the Kiowa, Rita Blanca, Black Kettle, and McClellan Creek National Grasslands. The areas included in the proposal vary widely in geographical and ecological settings and conditions, from woodlands and forests to short-grass and tall-grass prairies. The wide range of biological and physical settings complicates the analysis and disclosure of effects. The Forest Service plans to reassess the proposal and determine the appropriate scope of the proposal and form of environmental documentation. The NEPA process will be re-initiated for any new proposed actions.

FOR FURTHER INFORMATION CONTACT: Keith Baker, NEPA Coordinator, Cibola National Forest, 2113 Osuna Road NE., Albuquerque, NM 87113, Phone (505) 346-3820, Fax (505) 346-3901.

Dated: March 18, 2008.
Nancy Rose,
Forest Supervisor.

[FR Doc. E8-6328 Filed 3-27-08; 8:45 am]

BILLING CODE 3410-11-M